DEPARTMENT OF HEALTH AND HUMAN SERVICES

Administration for Children and Families

[Office of Management and Budget #: 0970-0611]

Submission for Office of Management and Budget Review; Proposed Information Collection Activity; Tribal Maternal, Infant, and Early Childhood Home Visiting Program: Implementation Plan Guidance and Community Needs and Readiness Assessment Guidance

AGENCY: Office of Early Childhood Development, Administration for Children and Families, U.S. Department of Health and Human Services.

ACTION: Request for public comments.

SUMMARY: The Administration for Children and Families (ACF), Office of Early Childhood Development (ECD) is requesting revisions to the Tribal Maternal, Infant, and Early Childhood Home Visiting (MIECHV) Program: Implementation Plan Guidance and Community Needs and Readiness Assessment (CNRA) Guidance (Office of Management and Budget (OMB) #: 0970-0611; expiration June 30, 2026) and a 3-year extension of approval.

DATES: Comments due June 26, 2025. OMB must decide about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this information collection by selecting “Currently under 30-day Review—Open for Public Comments” or by using the search function. You can also obtain copies of the proposed collection of information by emailing infocollection@acf.hhs.gov. Identify all emailed requests by the title of the information collection.

SUPPLEMENTARY INFORMATION:

Description: Section 511(e)(8)(A) of Title V of the Social Security Act requires that grantees under the MIECHV program conduct a needs assessment. Section 511(d) requires that grantees collect and report on quantifiable, measurable 3- and 5-year benchmarks for demonstrating that the program results in improvements for the eligible families participating in the program across six benchmark areas, and section 511(d)(3) requires that grantees use the majority of funds to implement evidence-based home visiting models. Section 511(h)(2)(A) further states that the requirements for the MIECHV grants to tribes, tribal organizations, and urban Indian organizations (i.e., Tribal MIECHV grants) are to be consistent, to the greatest extent practicable, with the requirements for grantees under the MIECHV program for states and jurisdictions. ACF/ECD, in collaboration with the Health Resources and Services Administration Maternal and Child Health Bureau, awarded grants for the Tribal MIECHV Program to support cooperative agreements to conduct a (CNRA); plan for and implement high-quality, culturally-relevant, evidence-based home visiting programs in at-risk tribal communities; establish, measure, and report on progress toward meeting performance measures in the six legislatively-mandated benchmark areas; and participate in research and evaluation activities to build the knowledge base on home visiting among Native populations.

During the first grant year, per the Notice of Funding Opportunity for these awards, Tribal Home Visiting grantees must comply with the requirement to conduct a CNRA and must also submit an implementation plan that should outline planned activities to be carried out under the program in years 2-5 of their cooperative agreements (including the evidence-based model to be implemented and the plan for collecting and reporting on benchmarks data). To assist grantees with meeting these requirements, ACF created a CNRA and implementation guidance for grantees to use when writing their plans. The CNRA Guidance and Implementation Plan Guidance specifies that grant recipients must provide a plan to address the following areas:

• CNRA

• Program Design

• Program Blueprint

• Plan for Data Collection, Management, and Performance Measurement

• Plan for Using Data for Quality Assurance, Fidelity Monitoring, and Program Improvement

Respondents: Tribal Home Visiting Managers (information collection does not include direct interaction with individuals or families that receive the services).

Annual Burden Estimates
Instrument | Total number of respondents | Total number of responses per respondent | Average burden hours per response | Total burden hours
Tribal MIECHV Implementation Plan Guidance | 27 | 1 | 450 | 12,150
Tribal MIECHV CNRA | 27 | 1 | 450 | 12,150
Estimated Total Annual Burden Hours: |  |  |  | 24,300

Authority: Title V of the Social Security Act, Sections 511(e)(8)(A) & 511(h)(2)(A).

Mary C. Jones,
ACF/OPRE Certifying Officer.

[FR Doc. 2025-09437 Filed 5-23-25; 8:45 am]

BILLING CODE 4182-07-P